DEPARTMENT OF THE INTERIOR

Bureau of Land Management

[LLIDT030000.L16510000.IU0000.241A.00]

Notice of Intent To Prepare an Environmental Assessment for the Proposed North Highway 20 Travel Management Plan and Possible Management Framework Plan Amendment

AGENCY: Bureau of Land Management, Interior.

ACTION: Notice of Intent.

SUMMARY: In compliance with the National Environmental Policy Act of 1969 (NEPA), as amended, and the Federal Land Policy and Management Act of 1976, as amended, the Bureau of Land Management (BLM) Shoshone Field Office, Shoshone, Idaho intends to prepare an Environmental Assessment (EA) which may include an amendment to the 1981 Sun Valley Management Framework Plan (MFP) and by this notice is announcing the beginning of the scoping process to solicit public comments and identify issues.

DATES: This notice initiates the public scoping process for the EA and possible MFP amendment. Comments on issues may be submitted in writing until January 3, 2011. The date(s) and location(s) of any scoping meetings will be announced at least 15 days in advance through local media and the BLM Web site at: http://www.blm.gov/id/. In order to be included in the EA and draft plan amendment, all comments must be received prior to the close of the scoping period or 15 days after the last public meeting, whichever is later. We will provide additional opportunities for public participation upon publication of the EA and draft plan amendment.

ADDRESSES: You may submit comments on issues and planning criteria related to the North Highway 20 Travel Management Plan by any of the following methods:

• E-mail: North_Highway20_Travel_Plan@blm.gov

• Fax: (208) 732-7317, Attention: John Kurtz; or

• Mail: North Highway 20 Travel Management Plan, 400 West “F” Street, Shoshone, Idaho 83352

Documents pertinent to this proposal may be examined at the Shoshone Field Office.

FOR FURTHER INFORMATION CONTACT: To have your name added to our mailing list contact John Kurtz, Outdoor Recreation Planner, BLM Shoshone Field Office, 400 West F Street, Shoshone, Idaho 83352 or telephone: (208) 732-7296.

SUPPLEMENTARY INFORMATION: The planning area consists of 239,145 acres of BLM-managed public land and approximately 660 miles of existing roads and trails lying north of Highway 20 within the BLM Shoshone Field Office. Boundaries include Chimney Creek on the west and Craters of the Moon National Monument and Preserve and Fish Creek on the east.

The Sun Valley MFP designated the majority of the planning area as “Open” to off-highway vehicles (OHV), meaning OHVs can travel cross-country. The planning area will be evaluated using current policy and resource information to consider and identify as planning decisions areas “Open,” “Limited to Designated Routes,” or “Closed” to OHV use. A “Limited to Designated Routes” designation would result in motorized and possibly mechanized vehicles being limited to designated roads and trails, while a “Closed” designation precludes OHV travel altogether. The OHV designations in the Sun Valley MFP would be amended as a result of the travel management plan decision. In addition to the plan decisions described above, the travel management implementation plan will also make implementation decisions regarding designated routes and type of use. Future travel management development, such as parking areas and trailheads and future trail construction corridors on public land, may also be considered in order to facilitate travel through public lands and provide trail-based recreational opportunities. There is a need to be responsive to current and future demand for recreational opportunities and to provide access to support livestock operations, realty actions and private in-holdings.

The purpose of the public scoping process is to determine relevant issues that will influence the scope of the EA, including alternatives, and guide the process for developing the EA. At present, the BLM has identified the following preliminary issues: Demand for trail-based recreational opportunities; unauthorized trail construction; resource impacts resulting from vehicles traveling cross-country; conflicts between user groups (motorized and non-motorized); conflicts between recreationists and livestock operations; and legal access to public lands.

Authorization of this proposal may require amendment of the 1981 Sun Valley MFP. By this notice, the BLM is complying with requirements in 43 CFR 1610.2(c) to notify the public of potential amendments to land use plans, predicated on the findings of the EA. If a land use plan amendment is necessary, the BLM will integrate the land use planning process with the NEPA process for this project. The BLM will use and coordinate the NEPA commenting process to satisfy the public involvement process for Section 106 of the National Historic Preservation Act (16 U.S.C. 470(f)) as provided for in 36 CFR 800.2(d)(3). Native American tribal consultations will be conducted in accordance with policy and tribal concerns. Potential impacts on Indian trust assets will be given due consideration. Federal, state, and local agencies, along with other stakeholders that may be interested in or affected by the BLM's decision on this project are invited to participate in the scoping process and, if eligible, may request, or be requested by the BLM, to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Ruth Miller,
Field Manager.

[FR Doc. 2010-30188 Filed 11-30-10; 8:45 am]

BILLING CODE 4310-GG-P